DEPARTMENT OF AGRICULTURE

Forest Service

Snohomish County Resource Advisory Committee (RAC)

AGENCY: Forest Service, USDA.

ACTION: Notice of meetings.

SUMMARY: The Snohomish County Resource Advisory Committee (RAC) has scheduled two upcoming meetings at the Snohomish County Administration Building, 3000 Rockefeller Ave., Everett, WA 98201. The first meeting will be Tuesday, March 23, 2004, in the Willis Tucker Conference Room, 3rd floor. The second meeting will be Tuesday, March 30, 2004, in the Planning Conference Room, 4th Floor.

Both meetings will begin at 9 a.m. and continue until about 4 p.m. The agenda item to be covered at both meetings is the review and recommendation of Title II projects for FY 2004.

All Snohomish County Resource Advisory Committee meetings are open to the public. Interested citizens are encouraged to attend.

The Snohomish County Resource Advisory Committee advises Snohomish County on projects, reviews project proposals, and makes recommendations to the Forest Supervisor for projects to be funded by Title II dollars. The Snohomish County Resource Advisory Committee was established to carry out the requirements of the Secure Rural Schools and Community Self-Determination Act of 2000.

FOR FURTHER INFORMATION CONTACT: Direct questions regarding this meeting to Barbara Busse, Designated Federal Official, USDA Forest Service, Mt. Baker-Snoqualmie National Forest, 74920NE. Stevens Pass Hwy, P.O. Box 305, Skykomish, WA 98288 (phone: 360-677-2414) or Terry Skorheim, District Ranger, USDA Forest Service, Mt. Baker-Snoqualmie National Forest, 1405 Emens St., Darrington, WA 98241 (phone: 360-436-1155).

Dated: February 23, 2004.
Barbara Busse,
Designated Federal Official.

[FR Doc. 04-4556 Filed 3-1-04; 8:45 am]

BILLING CODE 3410-11-M